DEPARTMENT OF COMMERCE

International Trade Administration

[A-475-818]

Certain Pasta From Italy: Amended Final Results of Antidumping Duty Administrative Review; 2013-2014

AGENCY: Enforcement and Compliance, International Trade Administration, Department of Commerce.

SUMMARY: The Department of Commerce (the Department) is amending the Final Results ¹ of the antidumping duty administrative review of certain pasta (pasta) from Italy to correct a ministerial error. The period of review (POR) is July 1, 2013, through June 30, 2014.

¹ See Certain Pasta From Italy: Final Results of Antidumping Duty Administrative Review; 2013-2014, 81 FR 8043 (February 17, 2016) (Final Results).

DATES: Effective March 10, 2016.

FOR FURTHER INFORMATION CONTACT: Joy Zhang, AD/CVD Operations, Office III, Enforcement and Compliance, International Trade Administration, U.S. Department of Commerce, 14th Street and Constitution Avenue NW., Washington, DC 20230; telephone: (202) 482-1168.

SUPPLEMENTARY INFORMATION:

Background

On February 10, 2016, the Department disclosed to interested parties its calculations for the Final Results.² On February 17, 2016, the Department received a timely filed ministerial error allegation from La Molisana, S.p.A. (La Molisana) regarding the Department's final margin calculation.³

² See Memorandum to Eric Greynolds, Program Manager, AD/CVD Operations, Office III from Joy Zhang, Case Analyst, “2013-2014 Antidumping Duty Administrative Review of Certain Pasta from Italy—Final Results, Sales Analysis Memorandum for La Molisana,” dated February 10, 2016 (Final Results Calculations).

³ See Letter from La Molisana, “Certain Pasta From Italy: A-475-818; Request for Correction of Clerical Error Pursuant to 17 CFR Section 351.224(f),” dated February 16, 2016.

Period of Review

The POR covered by this review is July 1, 2013, through June 30, 2014.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.⁴

⁴ For a full description of the scope of the order, see the “Issues and Decision Memorandum for the Final Results of Antidumping Duty Administrative Review and Partial Rescission: Certain Pasta from Italy; 2013-2014” from Christian Marsh, Deputy Assistant Secretary for Antidumping and Countervailing Duty Operations, to Paul Piquado, Assistant Secretary for Enforcement and Compliance, dated February 9, 2016 (Issues and Decision Memorandum) and incorporated herein by reference.

Ministerial Errors

Section 751(b) of the Tariff Act of 1930, as amended (“the Act”), and 19 CFR 351.224(f) defines a ministerial error as an error “in addition, subtraction, or other arithmetic function, clerical errors resulting from inaccurate copying, duplication, or the like, and any other type of unintentional error which {the Department} considers ministerial.” We analyzed La Molisana's ministerial error comments and determined, in accordance with section 751(h) of the Act and 19 CFR 351.224(e), that there was a ministerial error in our margin calculation for La Molisana for the Final Results. For a complete discussion of the alleged error, see the Department's Ministerial Error Memorandum.⁵

⁵ See “Amended Final Results of the 2013-2014 Administrative Review of the Antidumping Duty Order on Certain Pasta from Italy: Allegation of Ministerial Error,” dated concurrently with this notice (“Ministerial Error Memorandum”).

In accordance with section 751(h) of the Act and 19 CFR 351.224(e), we are amending the Final Results. Specifically, we are amending the weighted-average dumping margin for La Molisana as well as for the companies that were not selected for individual examination, who were assigned the rate determined for La Molisana.⁶ The revised weighted-average dumping margins for the affected companies are detailed below.

⁶ See Final Results, 80 FR at 61362.

Amended Final Results

As a result of correcting for the ministerial error, we determined the following amended weighted-average dumping margins ⁷ for the period July 1, 2013, through June 30, 2014:

⁷ The margin for the non-examined companies was based on the calculated weighted-average margin of La Molisana (the sole mandatory respondent receiving an above de minimis margin in these final results).

Producer and/or exporter | Weighted-average dumping margin (percent)
La Molisana S.p.A | 6.43
Rummo S.p.A., Lenta Lavorazione, Pasta Castiglioni, and Rummo S.p.A. Molino e Pastificio (collectively, the Rummo Group) | 0.00
Pastificio Andalini S.p.A. | 6.43
Delverde Industrie Alimentari S.p.A | 6.43

Duty Assessment/Case Deposits

The Department intends to issue assessment instructions to CBP 15 days after the date of publication of these amended final results to liquidate shipments of subject merchandise produced and/or exported by respondents listed above entered, or withdrawn form warehouse, for consumption on or after July 1, 2013, through June 30, 2014.

Pursuant to section 751(a)(2)(C) of the Act, the Department also intends to instruct CBP to collect cash deposits of estimated dumping duties, in the amounts shown above for each of the respective companies shown above, on shipments of subject merchandise entered, or withdrawn from warehouse, for consumption on or after February 17, 2016, the date of publication of the Final Results. For all non-reviewed firms, we will instruct CBP to continue to collect cash deposits at the most-recent company-specific or all-others rate applicable to the company, as appropriate. These cash deposit requirements, when imposed, shall remain in effect until further notice.

Administrative Protective Order

This notice also serves as a reminder to parties subject to administrative protective orders (“APO”) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

We will disclose the calculations performed for these amended final results to interested parties within five business days of the date of the publication of this notice in accordance with 19 CFR 351.224(b).

We are issuing and publishing this notice in accordance with sections 751(h) and 777(i)(1) of the Act and 19 CFR 351.224(e).

Dated: March 4, 2016.
Paul Piquado,
Assistant Secretary for Enforcement and Compliance.

[FR Doc. 2016-05407 Filed 3-9-16; 8:45 am]

BILLING CODE 3510-DS-P